DEPARTMENT OF COMMERCE

International Trade Administration

[A-580-878]

Corrosion-Resistant Steel Products From the Republic of Korea: Amended Final Results of Antidumping Duty Administrative Review; 2018-2019

AGENCY: Enforcement and Compliance, International Trade Administration, Department of Commerce.

SUMMARY: The Department of Commerce (Commerce) is amending the final results of the antidumping duty administrative review of the antidumping duty order on certain corrosion resistant steel products (CORE) from the Republic of Korea (Korea) to correct a ministerial error with respect to Dongkuk Steel Mill Co., Ltd. (Dongkuk)'s final margin rate. The period of review is July 1, 2018, through June 30, 2019.

DATES: Applicable July 22, 2021.

FOR FURTHER INFORMATION CONTACT: Leo Ayala, AD/CVD Operations, Office VII, Enforcement and Compliance, International Trade Administration, U.S. Department of Commerce, 1401 Constitution Avenue NW, Washington, DC 20230; telephone: (202) 482-3945.

SUPPLEMENTARY INFORMATION:

Background

On May 27, 2021, Commerce published its Final Results.¹ On June 1, 2021, we received timely-filed ministerial error comments from Dongkuk alleging that Commerce made a ministerial error in the Final Results.² No other party made an allegation of ministerial errors. After reviewing the allegation, we determine that the Final Results included a ministerial error with respect Dongkuk's final margin rate calculation. Therefore, we made a change, as described below, to the Final Results.

¹ See Corrosion-Resistant Steel Products from the Republic of Korea: Final Results of Antidumping Duty Administrative Review and Final Determination of No Shipments; 2018-2019, 86 FR 28571 (May 27, 2021) (Final Results).

² See Dongkuk's Letter, “Certain Corrosion-Resistant Steel Products from the Republic of Korea: Ministerial Error Comments,” dated June 1, 2021 (Dongkuk Ministerial Allegation).

Scope of the Order

The products covered by this order is CORE from Korea. For a complete description of the scope of the order, see the Final Results.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending . . . the final results of review.”

³ See 19 CFR 351.224(f).

Ministerial Error

Dongkuk alleged that Commerce made a ministerial error in the Final Results within the meaning of section 751(h) of the Act and 19 CFR 351.224(f) by incorrectly calculating Dongkuk's total cost of manufacturing. We agree. Therefore, pursuant to 19 CFR 351.224(e), we are amending the Final Results to correct this error. This correction results in a change to Dongkuk's weighted-average dumping margin and also changes the rate calculated for the non-individually-examined companies. For a detailed discussion of the ministerial error allegation, as well as Commerce's analysis, see the Ministerial Error Memorandum.⁴

⁴ See Memorandum, “Corrosion-Resistant Steel Products from the Republic of Korea: Amended Final Results—Ministerial Error Allegation in Final of Antidumping Duty Administrative Review,” dated concurrently with this Federal Register notice (Ministerial Error Memorandum).

Amended Final Results of the Review

We are assigning the following weighted-average dumping margins to the firms listed below for the period July 1, 2018, through June 30, 2019:

Exporter/producer | Estimated weighted-average dumping margin (percent)
Dongkuk Steel Mill Co., Ltd. (Dongkuk) | 0.66
Non-individually Examined Companies:
POSCO | 0.74
POSCO Coated & Color Steel Co., Ltd | 0.74
POSCO Daewoo Corporation | 0.74
POSCO International Corporation | 0.74

Disclosure

We intend to disclose the calculations performed for these amended final results in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the amended final results of this review.

In accordance with 19 CFR 351.212(b)(1), where Dongkuk reported the entered value of its U.S. sales, we calculated importer-specific ad valorem duty assessment rates based on the ratio of the total amount of dumping calculated for the examined sales to the total entered value of the sales for which entered value was reported. Where Dongkuk did not report entered value, we calculated the entered value in order to calculate the assessment rate. Where either Dongkuk's weighted-average dumping margin is zero or de minimis within the meaning of 19 CFR 351.106(c)(1), or an importer-specific rate is zero or de minimis, we will instruct CBP to liquidate the appropriate entries without regard to antidumping duties.

For the companies which were not selected for individual review, we will assign an assessment rate based on the average of the cash deposit rates calculated for Dongkuk and Dongbu Steel Co., Ltd.⁵ The amended final results of this review shall be the basis for the assessment of antidumping duties on entries of merchandise covered by the amended final results of this review and for future deposits of estimated duties, where applicable.

⁵ See Memorandum, “Antidumping Duty Administrative Review of Certain Corrosion-Resistant Steel Products from the Republic of Korea: Amended Final Results Calculation for All Others,” dated concurrently with this Federal Register notice.

Commerce's “automatic assessment” practice will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.

We intend to issue liquidation instructions for Dongkuk and the companies covered by the non-reviewed companies' rate to CBP 35 days after publication of these amended final results of this administrative review. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after May 27, 2021, the date of publication date of the Final Results of this administrative review, as provided by section 751(a)(2)(C) of the Act: (1) The cash deposit rate for each specific company listed above will be that established in the amended final results; (2) for previously reviewed or investigated companies, including those for which Commerce may have determined had no shipments during the POR, the cash deposit rate will continue to be the company-specific rate published for the most recently completed segment of this proceeding in which the company participated; (3) if the exporter is not a firm covered in this or an earlier review, or the original less-than-fair-value (LTFV) investigation, but the manufacturer is, the cash deposit rate will be the rate established for the most recently completed segment of this proceeding for the manufacturer of the merchandise; and (4) if neither the exporter nor the manufacturer is a firm covered in this or any previously completed segment of this proceeding, then the cash deposit rate will be the all-others rate of 8.31 percent established in the LTFV investigation.⁶ These deposit requirements, when imposed, shall remain in effect until further notice.

⁶ See Certain Corrosion-Resistant Steel Products From the Republic of Korea: Notice of Court Decision Not in Harmony With Final Determination of Investigation and Notice of Amended Final Results, 83 FR 39054 (August 8, 2018).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order is hereby requested. Failure to comply with the regulations and terms of an APO is a violation which is subject to sanction.

Notification to Interested Parties

We are issuing and publishing these amended final results of review in accordance with sections 751(h) and 777(i) of the Act, and 19 CFR 351.224(e).

Dated: July 15, 2021.
Christian Marsh,
Acting Assistant Secretary for Enforcement and Compliance.

[FR Doc. 2021-15586 Filed 7-21-21; 8:45 am]

BILLING CODE 3510-DS-P